DEPARTMENT OF HOMELAND SECURITY

Federal Emergency Management Agency

[Docket ID FEMA-2013-0002; Internal Agency Docket No. FEMA-B-1335]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with FEMA regulations. The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below.

Additionally, the current effective FIRM and FIS report for each community are accessible online through the FEMA Map Service Center at www.msc.fema.gov for comparison.

State and county | Location and case No. | Chief executive officer of community | Community map repository | Online location of Letter of Map Revision | Effective date of modification | Community No.
Alabama:
Houston | City of Dothan (12-04-8239P) | The Honorable Mike Schmitz, Mayor, City of Dothan ,P.O. Box 2128, Dothan, AL 36302 | Engineering Department, 126 North St. Andrews, Dothan, AL 36303 | http://www.bakeraecom.com/index.php/alabama/houston/ | October 18, 2013 | 010104
Houston | City of Dothan (13-04-3332P) | The Honorable Mike Schmitz, Mayor, City of Dothan, P.O. Box 2128, Dothan, AL 36302 | Engineering Department, 126 North St. Andrews, Dothan, AL 36303 | http://www.bakeraecom.com/index.php/alabama/houston/ | September 27, 2013 | 010104
Montgomery | City of Montgomery (13-04-2273P) | The Honorable Todd Strange, Mayor, City of Montgomery ,103 North Perry Street, Montgomery, AL 36104 | Engineering Department, 25 Washington Avenue, Montgomery, AL 36104 | http://www.bakeraecom.com/index.php/alabama/montgomery/ | October 31, 2013 | 010174
Arizona:
Maricopa | City of Peoria (13-09-0215P) | The Honorable Bob Barrett, Mayor, City of Peoria, 8401 West Monroe Street, Peoria, AZ 85345 | City Hall, 8401 West Monroe Street, Peoria, AZ 85345 | http://www.r9map.org/Docs/13-09-0215P-040050-102IAC.pdf | October 11, 2013 | 040050
Maricopa | Unincorporated areas of Maricopa County (13-09-0215P) | The Honorable Andy Kunasek, Chairman, Maricopa County Board of Supervisors, 301 West Jefferson, 10th Floor, Phoenix, AZ 85003 | Maricopa County Flood Control District 2801 West Durango Street, Phoenix, AZ 85009 | http://www.r9map.org/Docs/13-09-0215P-040037-102IAC.pdf | October 11, 2013 | 040037
Maricopa | Unincorporated areas of Maricopa County (13-09-0216P) | The Honorable Andy Kunasek, Chairman, Maricopa County Board of Supervisors, 301 West Jefferson, 10th Floor, Phoenix, AZ 85003 | Maricopa County Flood Control District, 2801 West Durango Street, Phoenix, AZ 85009 | http://www.r9map.org/Docs/13-09-0216P-040037-102IAC.pdf | September 27, 2013 | 040037
Pinal | City of Maricopa (13-09-0917P) | The Honorable Christian Price, Mayor, City of Maricopa P.O. Box 610, Maricopa, AZ 85139 | City Hall, 44624 West Garvey Avenue, Maricopa, AZ 85239 | http://www.r9map.org/Docs/13-09-0917P-040052.pdf | October 21, 2013 | 040052
Yavapai | Town of Chino Valley (13-09-1088P) | The Honorable Chris Marley, Mayor, Town of Chino Valley, P.O. Box 406, Chino Valley, AZ 86323 | Development Services Department, 1982 Voss Drive, Chino Valley, AZ 86323 | http://www.r9map.org/Docs/13-09-1088P-040094-102IAC.pdf | September 20, 2013 | 040094
California:
Los Angeles | Unincorporated areas of Los Angeles County (13-09-0378P) | The Honorable Mark Ridley-Thomas, Chairman, Los Angeles County Board of Supervisors, 500 West Temple Street, Los Angeles, CA 90012 | Los Angeles County Department of Public Works, 900 South Fremont Avenue, Alhambra, CA 91803 | http://www.r9map.org/Docs/13-09-0378P-065043-102IAC.pdf | September 30, 2013 | 065043
Riverside | Unincorporated areas of Riverside County (13-09-0484P) | The Honorable John J. Benoit, Chairman, Riverside County Board of Supervisors, P.O. Box 1647, Riverside, CA 92502 | Riverside County Flood Control and Water Conservation District, 1995 Market Street, Riverside, CA 92501 | http://www.r9map.org/Docs/13-09-0484P-060245-102IAC.pdf | September 30, 2013 | 060245
Sacramento | City of Citrus Heights (13-09-1081P) | The Honorable Steve Miller, Mayor, City of Citrus Heights, 6237 Fountain Square Drive, Citrus Heights, CA 95621 | General Services Department, Engineering Division, 6237 Fountain Square Drive, Citrus Heights, CA 95621 | http://www.r9map.org/Docs/13-09-1081P-060765.pdf | October 18, 2013 | 060765
Sacramento | Unincorporated areas of Sacramento County (13-09-1081P) | The Honorable Susan Peters ,Chair, Sacramento County Board of Supervisors, 700 H Street, Suite 2450, Sacramento, CA 95814 | Municipal Services Agency, Department of Water Resources, 827 7th Street, Suite 301 Sacramento, CA 95814 | http://www.r9map.org/Docs/13-09-1081P-060262.pdf | October 18, 2013 | 060262
Sacramento | Unincorporated areas of Sacramento County (13-09-1460P) | The Honorable Susan Peters, Chair, Sacramento County Board of Supervisors, 700 H Street, Suite 2450, Sacramento, CA 95814 | Municipal Services Agency, Department of Water Resources, 827 7th Street, Suite 301, Sacramento, CA 95814 | http://www.r9map.org/Docs/13-09-1460P-060262.pdf | October 18, 2013 | 060262
San Bernardino | City of Ontario (13-09-0673P) | The Honorable Paul S. Leon, Mayor, City of Ontario, 303 East B Street, Ontario, CA 91764 | City Hall Engineering Department Public Counter, 303 East B Street, Ontario, CA 91764 | http://www.r9map.org/Docs/13-09-0673P-060278-102DA.pdf | September 20, 2013 | 060278
San Diego | City of Vista (13-09-0759P) | The Honorable Judy Ritter, Mayor, City of Vista, 200 Civic Center Drive, Vista, CA 92084 | City Hall, 200 Civic Center Drive, Vista, CA 92084 | http://www.r9map.org/Docs/13-09-0759P-060297-102IAC.pdf | October 7, 2013 | 060297
San Diego | Unincorporated areas of San Diego County (13-09-0628P) | The Honorable Greg Cox, Chairman, San Diego County Board of Supervisors, 1600 Pacific Highway, Room 335, San Diego, CA 92101 | San Diego County Department of Public Works, Flood Control Department, 5201 Ruffin Road, Suite P, San Diego, CA 92123 | http://www.r9map.org/Docs/13-09-0628P-060284.pdf | October 18, 2013 | 060284
Santa Clara | City of San Jose (13-09-1387P) | The Honorable Chuck Reed, Mayor, City of San Jose, 200 East Santa Clara Street, San Jose, CA 95113 | Department of Public Works, 200 East Santa Clara Street, San Jose, CA 95113 | http://www.r9map.org/Docs/13-09-1387P-060349-102DA.pdf | September 30, 2013 | 060349
Colorado:
Arapahoe | City of Aurora (13-08-0148P) | The Honorable Steve Hogan, Mayor, City of Aurora, 15151 East Alameda Parkway, Aurora, CO 80012 | Engineering Department, 15151 East Alameda Parkway, Aurora, CO 80012 | http://www.bakeraecom.com/index.php/colorado/arapahoe/ | October 11, 2013 | 080002
Eagle | Unincorporated areas of Eagle County (12-08-0871P) | The Honorable John Stavney, Chairman, Eagle County Board of Commissioners, P.O. Box 850, Eagle, CO 81631 | Eagle County Engineering Department, 500 Broadway Street, Eagle, CO 81631 | http://www.bakeraecom.com/index.php/colorado/eagle/ | October 25, 2013 | 080051
Larimer | Unincorporated areas of Larimer County (12-08-0883P) | The Honorable Steve Johnson, Chairman, Larimer County Board of Commissioners, P.O. Box 1190, Fort Collins, CO 80522 | Larimer County Engineering Department, 200 West Oak Street, Fort Collins, CO 80521 | http://www.bakeraecom.com/index.php/colorado/larimer/ | September 30, 2013 | 080101
Mesa | City of Grand Junction (13-08-0266P) | The Honorable Sam Susuras, Mayor, City of Grand Junction 250 North 5th Street, Grand Junction, CO 81501 | City Hall, 250 North 5th Street, Grand Junction, CO 81501 | http://www.bakeraecom.com/index.php/colorado/mesa/ | October 14, 2013 | 080117
Mesa | Unincorporated areas of Mesa County (13-08-0266P) | The Honorable Steven Acquafresca, Chairman, Mesa County Board of Commissioners, P.O. Box 20000 Grand Junction, CO 81502 | Mesa County Public Works Department, 200 South Spruce Street, Grand Junction, CO 81501 | http://www.bakeraecom.com/index.php/colorado/mesa/ | October 14, 2013 | 080115
Florida:
Charlotte | Unincorporated areas of Charlotte County (13-04-3688P) | The Honorable Christopher Constance, Chairman, Charlotte County Board of Commissioners, 18500 Murdock Circle, Port Charlotte, FL 33948 | Charlotte County Community Development Department, 18500 Murdock Circle, Port Charlotte, FL 33948 | http://www.bakeraecom.com/index.php/florida/charlotte/ | October 11, 2013 | 120061
Duval | City of Jacksonville (13-04-3478P) | The Honorable Alvin Brown, Mayor, City of Jacksonville, 117 West Duval Street, Suite 400, Jacksonville, FL 32202 | Development Services Division, 117 West Duval Street, Jacksonville, FL 32202 | http://www.bakeraecom.com/index.php/florida/duval/ | October 25, 2013 | 120077
Escambia | Pensacola Beach-Santa Rosa Island Authority (13-04-2463P) | The Honorable Thomas A. Campanella, DDS, Chairman, Pensacola Beach-Santa Rosa Island Authority Board of Commissioners, P.O. Box 1208, Pensacola Beach, FL 32562 | Pensacola Beach-Santa Rosa Island Authority Development Department, 1 Via De Luna, Pensacola Beach, FL 32561 | http://www.bakeraecom.com/index.php/florida/escambia-2/ | October 11, 2013 | 125138
Escambia | Unincorporated areas of Escambia County (13-04-3129P) | The Honorable Gene M. Valentino, Chairman, Escambia County Board of Commissioners, 221 Palafox Place, Suite 400, Pensacola, FL 32502 | Escambia County Development Services Department, 3363 West Park Place, Pensacola, FL 32505 | http://www.bakeraecom.com/index.php/florida/escambia-2/ | September 30, 2013 | 120080
Lake | Unincorporated areas of Lake County (13-04-3459P) | The Honorable Leslie Shamrock Campione, Chair, Lake County Board of Commissioners, P.O. Box 7800, Tavares, FL 32778 | Lake County Public Works Department, 437 Ardice Avenue, Eustis, FL 32726 | http://www.bakeraecom.com/index.php/florida/lake/ | October 28, 2013 | 120421
Lee | Unincorporated areas of Lee County (13-04-3479P) | The Honorable Cecil L. Pendergrass, Chairman, Lee County Board of Commissioners, P.O. Box 398, Fort Myers, FL 33902 | Lee County Community Development Department, 1500 Monroe Street, 2nd Floor, Fort Myers, FL 33901 | http://www.bakeraecom.com/index.php/florida/lee-5/ | October 3, 2013 | 125124
Pinellas | City of Clearwater (13-04-2561P) | The Honorable George N. Cretekos, Mayor, City of Clearwater, 112 South Osceola Avenue, Clearwater, FL 33756 | City Audit Department, 100 South Myrtle Avenue, Suite 220, Clearwater, FL 33756 | http://www.bakeraecom.com/index.php/florida/pinellas/ | October 4, 2013 | 125096
Georgia: Columbia | Unincorporated areas of Columbia County (13-04-3711P) | The Honorable Ron C. Cross, Chairman, Columbia County Board of Commissioners, P.O. Box 498, Evans, GA 30809 | Columbia County Development Services Division, 630 Ronald Reagan Drive, Building A, Evans, GA 30809 | http://www.bakeraecom.com/index.php/georgia/columbia-2/ | September 19, 2013 | 130059
Nevada: Clark | City of Henderson (13-09-0920P) | The Honorable Andy Hafen, Mayor, City of Henderson, 240 Water Street, Henderson, NV 89015 | Public Works Department, 240 Water Street, Henderson, NV 89015 | http://www.r9map.org/Docs/13-09-0920P-320005-102IC.pdf | October 4, 2013 | 320005
North Carolina:
Rowan | Town of Granite Quarry (12-04-5555P) | The Honorable Mary S. Ponds, Mayor, Town of Granite Quarry, 143 North Salisbury Avenue Granite Quarry, NC 28072 | Town Hall, 143 North Salisbury Avenue, Granite Quarry, NC 28072 | http://www.ncfloodmaps.com/fhd.htm | October 17, 2013 | 370212
Union | Town of Waxhaw (13-04-3703P) | The Honorable Duane Gardner, Mayor, Town of Waxhaw, 317 North Broome Street, Waxhaw, NC 28173 | Town Hall, 317 North Broome Street, Waxhaw, NC 28173 | http://www.ncfloodmaps.com/fhd.htm | October 10, 2013 | 370473
Union | Unincorporated areas of Union County (12-04-5106P) | The Honorable Jerry Simpson, Chairman, Union County Board of Commissioners, 500 North Main Street, Monroe, NC 28112 | Union County Planning Department, 407 North Main Street, Room 149, Monroe, NC 28112 | http://www.ncfloodmaps.com/fhd.htm | October 17, 2013 | 370234
Union | Unincorporated areas of Union County (13-04-3703P) | The Honorable Jerry Simpson, Chairman, Union County Board of Commissioners, 500 North Main Street, Monroe, NC 28112 | Union County Planning Department, 407 North Main Street, Room 149, Monroe, NC 28112 | http://www.ncfloodmaps.com/fhd.htm | October 10, 2013 | 370234
Utah: Utah | City of Lindon (13-08-0544P) | The Honorable Jim Dain, Mayor, City of Lindon 100 North State Street, Lindon, UT 84042 | Council Chambers Office, 100 North State Street, Lindon, UT 84042 | http://www.bakeraecom.com/index.php/utah/utah-2/ | October 25, 2013 | 490210

(Catalog of Federal Domestic Assistance No. 97.022, “Flood Insurance.”)

Dated: August 12, 2013.
Roy Wright,
Deputy Associate Administrator for Mitigation, Department of Homeland Security, Federal Emergency Management Agency.

[FR Doc. 2013-20798 Filed 8-26-13; 8:45 am]

BILLING CODE 9110-12-P